DEPARTMENT OF THE INTERIOR

Bureau of Land Management

[AK-910-1310PP-ARAC]

Notice of Public Meeting, Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The Alaska Resource Advisory Council will conduct its field trip to Nome, Alaska, from July 18-20, 2007, which includes a public meeting on Wednesday, July 18, at St. Joseph's Church beginning at 1:30 p.m. The meeting will include a brief update on land management plans followed by a public comment period beginning at 4:15 p.m. A community open house where Nome residents can meet informally with the council is scheduled from 5:15 p.m. to 6:15 p.m.

When making public comment, participants should know that their address, phone number, e-mail address, or other personal identifying information in their comment, along with their entire comment may be made publicly available at any time. Commenters can ask that personal identifying information be withheld from their comments but this cannot be guaranteed.

FOR FURTHER INFORMATION CONTACT: Danielle Allen, Alaska State Office, 222 W. 7th Avenue #13, Anchorage, AK 99513. Telephone (907) 271-3335 or e-mail Danielle_Allen@ak.blm.gov.

SUPPLEMENTARY INFORMATION: The 15-member Council advises the Secretary of the Interior, through the Bureau of Land Management, on a variety of planning and management issues associated with public land management in Alaska.

All meetings are open to the public. The public may present written comments to the Council. Each formal Council meeting will also have time allotted for hearing public comments. Depending on the number of people wishing to comment and time available, the time for individual oral comments may be limited. Individuals who plan to attend and need special assistance, such as sign language interpretation, transportation, or other reasonable accommodations, should contact the BLM.

Dated: June 7, 2007.
Gust Panos,
Acting State Director.

[FR Doc. E7-11532 Filed 6-13-07; 8:45 am]

BILLING CODE 4310-JA-P